DEPARTMENT OF AGRICULTURE

Forest Service

Trinity County Resource Advisory Committee

AGENCY: Forest Service, USDA.

ACTION: Notice of meeting.

SUMMARY: The Trinity County Resource Advisory Committee (RAC) will meet at the Trinity County Office of Education in Weaverville, California, on June 25, 2007, at 6:30 p.m. The purpose of this meeting is to discuss proposed projects under Title II of the Secure Rural Schools and Community Self-Determination Act of 2000.

DATES: June 25, 2007.

ADDRESSES: The meeting will be held at the Trinity County Office of Education, 201 Memorial Drive, Weaverville, California 96093.

FOR FURTHER INFORMATION CONTACT: Michael R. Odle, Public Affairs Officer and Resource Advisory Committee Coordinator at (530) 226-2494.

SUPPLEMENTARY INFORMATION: The meeting is open to the public. Public input sessions will be provided and individuals will have the opportunity to address the Trinity County Resource Advisory Committee.

Dated: June 14, 2007.
Alan D. Olson,
Ecosystem Management Staff Officer, Shasta-Trinity National Forest.

[FR Doc. 07-3034 Filed 06-19-07; 8:45 am]

BILLING CODE 3410-EC-M